DEPARTMENT OF THE INTERIOR

National Park Service

Notice of Availability of a Final Environment Impact Statement for the General Management Plan for Carl Sandburg Home National Historic Site, Flat Rock, NC

SUMMARY: Pursuant to section 102(2)(c) of the National Environmental Policy Act of 1969, the National Park Service announces the availability of a Final Environmental Impact Statement and General Management Plan (FEIS/GMP) for Carl Sandburg Home National Historic Site, Flat Rock, North Carolina.

DATES: The Draft EIS/GMP was available for public review from October 15, 2002 through December 15, 2002. Responses to public comment are addressed in the FEIS/GMP. The National Park Service will execute a Record of Decision (ROD) no sooner than 30 days following publication by the Environmental Protection Agency of the notice of availability of the Final EIS.

ADDRESSES: Copies of the FEIS/GMP are available from the Superintendent, Carl Sandburg Home National Historic Site, 81 Carl Sandburg Lane, Flat Rock, North Carolina, 28731. Public reading copies of the FEIS/GMP will also be available for review at the following locations:

—Office of Superintendent, Carl Sandburg Home National Historic Site, 81 Carl Sandburg Lane, Flat Rock, North Carolina, 28731. Telephone: 828-693-4178.

—Division of Planning and Compliance, Southeast Regional Office, National Park Service, Attention: Tim Bemisderfer, 100 Alabama Street, 1924 Building, Atlanta, Georgia 30303. Telephone: 404-562-3124, ext. 693.

—An electronic copy of FEIS/GMP is available for download in .pdf format on the Internet at http://www.nps.gov/carl/gmp news.htm.

SUPPLEMENTARY INFORMATION: Consistent with the park's purpose, significance, and mission goals, the FEIS/GMP analyzes three action and one no action alternatives for guiding management of the park over the next 20 years. The environmental consequences anticipated from implementing the various alternatives are addressed in the document. Impact topics include cultural resources, natural resources, interpretation and museum operations, park operations and administration, and quality of life and the socioeconomic environment. The three action alternatives incorporate various management prescriptions to enhance resource protection and visitor experience conditions. The no-action alternative would continue current management practices into the future. The three action alternatives are described as follows:

The Sandburg Center alternative is the preferred alternative. Under this alternative, the park would serve as a focal point for learning about Carl Sandburg. Access to Sandburg related information, literature, and research would be enhanced by expanding the park's Internet database and creating secure and climate controlled exhibit areas for information and objects currently housed in the museum preservation facility. Additional interpretive program areas would be created by rehabilitating the interior of one or more historic structures near the main house or barn. The existing visitor contact station would be renovated to improve its interpretive and visitor services functions and a visitor center created outside the current authorized boundary of the park. The Sandburg Center alternative includes a Congressional legislated boundary expansion of 110 acres for scenic view and boundary protection and up to 5 acres for construction of a visitor center and new parking area.

The Paths of Discovery alternative would supplement the park's traditional high quality interpretive programs and enhance walking opportunities by constructing a ¾ mile long interpretive trail The alternative promotes a community-wide partnership strategy to address common needs such as additional parking and multi-purpose meeting space. The Paths of Discovery alternative includes a Congressionally legislated boundary expansion of 110 acres for scenic view and boundary protection and up to 5 acres for construction of a visitor center and new parking area.

In the Connemara Lifestyle alternative, visitors would experience the site much as Carl Sandburg knew it. Park management would focus on maintaining the site's historic landscape, structures, and furnishings and providing interpretive programs on site and at local schools. Primary access to the objects and information contained in the museum collection would occur at the main house, an expanded visitor contact station, and through the Internet or other mass media formats. Opportunities for access to objects and information would be greater than existing conditions but less than the Sandburg Center or Paths of Discovery alternatives. The Connemara Lifestyle alternative includes a Congressionally legislated boundary expansion of 25 acres for scenic view and boundary protection and up to 2 acres for construction of a new parking area.

In all action alternatives, the park would continue to provided guided tours of the Sandburg residence and maintain the historic landscape at a high level of integrity. Opportunities for walking would be available and closely managed to maintain the historic character of the site. The existing amphitheater would be relocated to a less intrusive location and the trailer restroom would be replaced by an appropriately designed modern facility at the same location. Any additional property interest would be acquired under a willing seller/willing buyer arrangement without the exercise of eminent domain.

FOR FURTHER INFORMATION CONTACT: Superintendent, Carl Sandburg Home National Historic Site, 81 Carl Sandburg Lane, Flat Rock, North Carolina, 28731, Telephone: 828-693-4178.

The responsible official for this Environmental Impact Statement is William W. Schenk, Regional Director, Southeast Region, National Park Service, 100 Alabama Street, SW., 1924 Building, Atlanta, Georgia 30303.

Dated: June 19, 2003.
W. Thomas Brown,
Acting Regional Director, Southeast Region.

[FR Doc. 03-18694 Filed 7-22-03; 8:45 am]

BILLING CODE 4310-5E-M